DEPARTMENT OF ENERGY

Federal Energy Regulatory Commission

[Tapoco Project No. 2169-020]

Alcoa Power Generating, Inc.; North Carolina/Tennessee; Notice of Availability of Final Environmental Assessment

September 10, 2004.

In accordance with the National Environmental Policy Act of 1969 and the Federal Energy Regulatory Commission's (Commission) regulations, 18 CFR Part 380, the Office of Energy Projects (staff) has reviewed the application for a new major license for the Tapoco Project, located on the Little Tennessee and Cheoah Rivers in Graham and Swain Counties, North Carolina and Blount and Monroe Counties, Tennessee, and prepared a final environmental assessment (FEA) for the project. The project affects federal lands of the U.S. Forest Service and the National Park Service.

The FEA contains staff's analysis of the potential environmental effects of the existing project and concludes that licensing the project, with staff's recommended measures, would not constitute a major federal action significantly affecting the quality of the human environment.

A copy of the FEA and application is available for review at the Commission in the Public Reference Room, or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. Register online at http://www.ferc.gov/esubscribenow.htm to be notified via e-mail of new filings and issuances related to this or other pending projects. For assistance, contact FERC Online Support.

The Commission strongly encourages electronic filings. Comments may be filed electronically via the Internet in lieu of paper. See 18 CFR 385.2001(a)(1)(iii) and the instructions on the Commission's Web site under the “e-Filing” link.

For further information, please contact Randy Yates by e-mail at lorance.yates@ferc.gov or phone (770) 452-3784.

Magalie R. Salas,
Secretary.

[FR Doc. E4-2209 Filed 9-15-04; 8:45 am]

BILLING CODE 6717-01-P